DEPARTMENT OF TRANSPORTATION

Office of the Secretary of Transportation

Establishment of the Future of Aviation Advisory Committee

AGENCY: U.S. Department of Transportation, Office of the Secretary of Transportation.

ACTION: Notice of Intent to Establish the Future of Aviation Advisory Committee.

SUMMARY: On March 24, 2010, the Secretary of Transportation authorized the establishment of a Federal Advisory Committee to address aviation issues. The Future of Aviation Advisory Committee (FAAC) will present information, advice, and recommendations to the Secretary of Transportation on ensuring the competitiveness of the U.S. aviation industry and its capability to address the evolving transportation needs, challenges, and opportunities of the global economy. The committee will consist of approximately 19 voting members. The committee will provide its recommendations to the Secretary of Transportation and will make them available to the public. The membership of the FAAC will be representative of the various stakeholders in the aviation industry.

DATES: This charter will be effective 15 days after the posting of this notice.

FOR FURTHER INFORMATION CONTACT: Christa Fornarotto, Deputy Assistant Secretary of Transportation Office of Aviation and International Affairs, 202-366-4551 or Aloha.Ley@dot.gov.

SUPPLEMENTARY INFORMATION:

Background

On November 12, 2009, the Secretary of Transportation convened a meeting of the aviation industry stakeholders. The Secretary solicited input from the attendees about identifying the most important issues currently facing the aviation industry.

In accordance with the requirements of the Federal Advisory Committee Act, as amended, 5 U.S.C. App. 2, the Department is publishing this notice to announce the Secretary's intent to establish an advisory committee. The advisory committee's objective will be to provide advice and recommendations to the Secretary regarding the aviation issues identified in its charter.

The advisory committee is expected to meet at least four times during this year to carry out its duties. Meetings of subcommittees or work groups may occur more frequently. Members of the public may review the draft charter for FAAC at http://www.regulations.gov in docket number DOT-OST-2010-0074.

Issued the 26th day of March, 2010, in Washington, DC.
Ray LaHood,
Secretary of Transportation.

[FR Doc. 2010-7440 Filed 4-1-10; 8:45 am]

BILLING CODE 4910-9X-P